DEPARTMENT OF AGRICULTURE

Forest Service

Equity 23-21 and 32-4 Oil and Gas Wells, Dakota Prairie Grassland, Billings County, North Dakota

AGENCY: Forest Service, USDA.

ACTION: Notice of intent to prepare an environment impact statement.

SUMMARY: The Forest Service will prepare an environmental impact statement to document the analysis and disclose the environmental impacts of the construction of the well pads, access roads, production facilities, utilites, and pipelines proposed under the Surface Use Plan of Operations (SUPO's) for the Equity 23-21 and 32-4 oil and gas wells located in the Bell Lake Inventoried Roadless Area (IRA).

The purpose and need of these oil and gas well projects is to honor valid existing lease rights which grant the exclusive right to drill for, mine, extract, remove and dispose of all oil and gas (except helium) in the lands described within the lease, together with the right to build and maintain necessary improvements thereupon.

This proposal is consistent with the provisions of the Dakota Prairie Grasslands (DPG) Land and Resource Management Plan (LRMP), specifically Goal 2c, Objective 1, which focuses on providing opportunities for oil and gas exploration consistent with the DPG LRMP. This proposal is consistent with key energy legislation including the Energy Security Act of 1980, the Federal Oil and Gas Royalty Management Act of 1982, the Federal Onshore Oil and Gas Leasing Reform Act of 1987, Executive Order 13212, and the Forest Services's Energy Implementation Plan.

Decisions to be made under this proposal include: whether to approve, deny, or modify the Surface Use Plan of Operations as submitted and whether to allow the use of herbicides for control of vegetation and noxious weeds on the well pads and access roads.

Preliminary issues include the fact that the proposed projects are located within the Bell Lake Inventoried Roadless Area (IRA). Honoring the oil and gas lease will mean that access roads and well pads will be constructed in the Bell Lake IRA.

ADDRESSES: The responsible official is David M. Pieper, Dakota Prairie Grasslands Supervisor. Please send written comments to Ronald W. Jablonski, Jr., District Ranger, Medora Ranger District, 161 21st Street West, Dickinson ND 58601. Comments may also be electronically submitted to rjablonski@fs.fed.us.

FOR FURTHER INFORMATION CONTACT: Jeff Adams, ID Team Leader, Medora Ranger District, 161 21st Street West, Dickinson ND 58601 or by e-mail to jcadams@fs.fed.us.

SUPPLEMENTARY INFORMATION: The Forest Service proposes to approve the SUPO's for the Equity 23-21 and 32-4 oil and gas well sites located in the NESW of Section 21, T143N, R103W, and the SWNE of Section 4, T143N, R103W, Billings County, North Dakota. This proposal would occur on National Forest System lands. The SUPO includes construction, maintenance, and reclamation proposals for the well pads, access roads, and needed oil production facilities, pipelines, and electric lines.

The Equity 23-21 and 32-4 proposals would include constructing approximately 4,475 and 2,501 feet of new access road, respectively. Each well pad would disturb an area, approximately 2.5 acres in size. Pipelines and electric utilities would be buried along the access roads. Production facilities (i.e., tanks, heater treater, and well pump) would be located on each well pad.

The entire 11,270 acre Bell Lake IRA is leased for oil and gas exploration and development. There are 320 acres of private mineral rights within the IRA. Under the recently signed DPG LRMP, the area within the IRA is to be managed as Management Area (MA) 6.1 “Rangeland with Broad Resource Emphasis”. This MA directs that valid leases will be honored.

Public participation is important to this analysis. Part of the goal of public involvement is to identify additional issues and to refine general issues. Scoping notices will be mailed to the public on or before January 10, 2003.

People may visit with Forest Service officials at any time during the analysis and prior to the decision. Two periods are specifically designated for comments on the analysis: (1) During the scoping process, and (2) during the draft EIS period.

Durin the scoping process, the Forest Service seeks additional information and comments from individuals, organizations, and federal, state, and local agencies that may be interested in or affected by the proposed action. The Forest Service invites written comments and suggestions on this action, particularly in terms of issues and alternative development.

The draft EIS is anticipated to be available for review in May of 2003. The final EIS is planned for completion in August of 2003.

The comment period on the draft environmental impact statement will be 45 days from the date the Environmental Protection Agency publishes the Notice of Availability in the Federal Register. The Forest Service will also publish a legal notice of its availability in the Bismarck Tribune Newspaper, Bismarck, North Dakota. The 45-day comment period will begin the day after the legal notice is published.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environment impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The responsible official will make the decision on this proposal after considering comments and responses, environmental consequences discussed in the final EIS, applicable laws, regulations, and policies. The decision and reasons for the decision will be documented in a Record of Decision.

Dated: December 19, 2002.
David M. Pieper,
Dakota Prairie Grasslands Supervisor.

[FR Doc. 02-32509 Filed 12-24-02; 8:45 am]

BILLING CODE 3410-11-M